DEPARTMENT OF THE INTERIOR

Bureau of Indian Affairs

[256A2100DD/AAKC001030/A0A501010.000000]

Indian Gaming; Extension of Tribal-State Class III Gaming Compact in California

AGENCY: Bureau of Indian Affairs, Interior.

ACTION: Notice.

SUMMARY: This notice announces the extensions of the class III gaming compact between the State of California and the Big Sandy Rancheria of Western Mono Indians of California.

DATES: The extension takes effect on August 25, 2025.

FOR FURTHER INFORMATION CONTACT: Mr. Philip Bristol, (A)Director, Office of Indian Gaming, Office of the Assistant Secretary—Indian Affairs, Washington, DC 20240, IndianGaming@bia.gov; (202) 219-4066.

SUPPLEMENTARY INFORMATION: An extension to an existing Tribal-State class III gaming compact does not require approval by the Secretary of the Interior if the extension does not modify any other terms of the compact. 25 CFR 293.5. The Big Sandy Rancheria of Western Mono Indians and the State of California have reached two agreements that together extend the expiration date of their existing class III gaming compact to July 1, 2025. This publication provides notice of the new expiration date of the compact.

Scott J. Davis,
Senior Advisor to the Secretary of the Interior, Exercising the delegated authority of the Assistant Secretary—Indian Affairs.

[FR Doc. 2025-16224 Filed 8-22-25; 8:45 am]

BILLING CODE 4337-15-P